DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: April 20, 2009, 8:30 a.m. to 5 p.m., April 22, 2009, 8:30 a.m. to 3 p.m.

Place: Doubletree Hotel and Executive Meeting Center, 8120 Wisconsin Avenue, Bethesda, Maryland 20814. Telephone: 301-652-2000.

Status: The meeting will be open to the public.

Purpose: The Committee members will focus on the working topic for the Ninth Annual Report—Toward Quality Healthcare Reform: Preparing the Interprofessional Healthcare Workforce for Primary Care. The Committee has invited Dr. Madeline Schmitt, Professor Emeritus/University of Rochester; Dr. Gail Jensen, Dean/Graduate School/Creighton University; Dr. Jody Gandy, Director/Department of Physical Therapy Education, American Physical Therapy Association; and Dr. Edward O'Neil, Director/Center for the Health Professions/University of California at San Francisco to engage in dialogue specific to the working report topic. The meeting will afford committee members with the opportunity to identify and discuss the current status of healthcare reform, best practices, lessons learned from the international perspective of interdisciplinary care, interprofessional competencies, and the like in an effort to formulate appropriate recommendations for the Secretary and the Congress.

Agenda: The ACICBL agenda includes an overview of the Committee's general business activities, presentations by and dialogue with experts, and discussion sessions specific for the development of recommendations to be addressed in the Ninth Annual ACICBL Report.

Agenda items are subject to change as dictated by the priorities of the Committee.

Supplementary Information: The ACICBL will join the Council on Graduate Medical Education (COGME), the National Advisory Council on Nurse Education and Practice (NACNEP), and the Advisory Committee on Training in Primary Care Medicine and Dentistry (ACTPCMD) on April 21, 2009, for the second Bureau of Health Professions (BHPr) All Advisory Committee Meeting. Please refer to the Federal Register notice for the BHPr All Advisory Committee Meeting for additional details.

For Further Information Contact: Anyone requesting information regarding the ACICBL should contact Dr. Joan Weiss, Designated Federal Official for the ACICBL, Bureau of Health Professions, Health Resources and Services Administration, Parklawn Building, Rm. 9-05, 5600 Fishers Lane, Rockville, Maryland 20857, (301) 443-6950 or jweiss@hrsa.gov. Additionally, CAPT Norma J. Hatot, Senior Nurse Consultant, can be contacted at (301) 443-2681 or nhatot@hrsa.gov.

Dated: March 17, 2009.
Alexandra Huttinger,
Director, Division of Policy Review and Coordination.

[FR Doc. E9-6232 Filed 3-20-09; 8:45 am]

BILLING CODE 4165-15-P